DEPARTMENT OF THE INTERIOR

Fish and Wildlife Service

Receipt of an Application for an Incidental Take Permit for the Sarment Parcel Low-Effect Habitat Conservation Plan, Monterey County, California

AGENCY: Fish and Wildlife Service, Interior.

ACTION: Notice of availability.

SUMMARY: Daniel Keig (applicant) has applied to the Fish and Wildlife Service (Service or “we”) for an incidental take permit pursuant to section 10(a)(1)(B) of the Endangered Species Act of 1973, as amended (Act). We are considering issuing a 5-year permit to the applicant that would authorize take of the federally endangered Smith's blue butterfly (Euphilotes enoptes smithi) incidental to otherwise lawful activities associated with construction of a single family home, which would remove 0.3 acre of Smith's blue butterfly habitat within a 6.1-acre parcel in Carmel Highlands, Monterey County, California.

We invite comments from the public on the permit application, which is available for review. The application includes a Habitat Conservation Plan (HCP), that fully describes the proposed project and the measures that the applicant would undertake to minimize and mitigate anticipated take of the Smith's blue butterfly, as required in Section 10(a)(2)(B) of the Act. These measures are outlined in the SUPPLEMENTARY INFORMATION section below.

We also invite comments on our preliminary determination that the HCP qualifies as a “low-effect” plan, eligible for a categorical exclusion under the National Environmental Policy Act (NEPA) of 1969, as amended. We explain the basis for this possible determination in a draft Environmental Action Statement and associated Low Effect Screening Form, which are also available for public review.

DATES: Written comments should be received on or before November 17, 2006.

ADDRESSES: Written comments should be addressed to Diane Noda, Field Supervisor, Ventura Fish and Wildlife Office, 2493 Portola Road, Suite B, Ventura, California 93003. Comments may also be sent by facsimile to (805) 644-3958. To obtain copies of draft documents, see “Availability of Documents” under SUPPLEMENTARY INFORMATION.

FOR FURTHER INFORMATION CONTACT: Jacob Martin, Fish and Wildlife Biologist (see ADDRESSES), telephone: (805) 644-1766, extension 285.

SUPPLEMENTARY INFORMATION: Please contact the Ventura Fish and Wildlife Office (see ADDRESSES) if you would like copies of the application, HCP, and Environmental Action Statement. Documents will also be available for review by appointment, during normal business hours, at the Ventura Fish and Wildlife Office (see ADDRESSES) or via the Internet at http://www.fws.gov/ventura.

Background

Section 9 of the Act and Federal regulations prohibit the “take” of fish or wildlife species listed as endangered or threatened, respectively. Take of listed fish or wildlife is defined under the Act to mean harass, harm, pursue, hunt, shoot, wound, kill, trap, capture, or collect, or to attempt to engage in any such conduct. However, the Service, under limited circumstances, may issue permits to cover incidental take, i.e., take that is incidental to, and not the purpose of, the carrying out of an otherwise lawful activity. Regulations governing incidental take permits for threatened and endangered species are found at 50 CFR 17.32 and 17.22, respectively. Among other criteria, issuance of such permits must not jeopardize the existence of federally listed fish, wildlife, or plants.

The Sarment Parcel (Assessor's Parcel Number 241-221-005) (Parcel) has an area of 6.1 acres, is owned by the applicant, and is located east of California Highway 1, in Carmel Highlands, Monterey County, California. The applicant proposes to develop a single family home within the Parcel. Development activities would include grading; construction of the home, driveway, and septic system; and landscaping; which are expected to disturb up to 0.3 acre. Two native plant communities are found within the Parcel, coastal sage scrub and closed-cone coniferous forest. Disturbed areas also exist within the Parcel, including an existing road and areas dominated by invasive plants.

The areas of coastal sage scrub within the Parcel include seacliff buckwheat (Eriogonum parvifolium), a food plant used by all life stages of the Smith's blue butterfly. Surveys in July 2000, July 2003, and August 2005 revealed these areas to be occupied by the Smith's blue butterfly. The proposed development would remove an area (0.3 acre) of coastal sage scrub that includes approximately 650 seacliff buckwheat plants. This removal is expected to result in take of Smith's blue butterflies. Additional seacliff buckwheat plants may be removed due to management activities, including invasive plant removal.

The applicant proposes to implement measures to minimize and mitigate for take of the Smith's blue butterfly within the project site. Specifically, they propose to: (1) Protect in perpetuity 1.04 acres, containing at least 2,000 seacliff buckwheat plants, via a deed restriction; (2) manage the protected area in perpetuity; (3) remove invasive plant species, especially iceplant (Carpobrotis sp.) throughout most of the Parcel; and (4) undertake various measures during grading and construction activities at the project site to minimize impacts to Smith's blue butterflies and their habitat.

The impacts from proposed construction are considered to be minor to the species as a whole because the amount of habitat being disturbed is small relative to the amount of habitat available within the Carmel Highlands area and within the range of the species as a whole.

The Service's proposed action is to issue an incidental take permit to the applicant who would then implement the HCP. Two alternatives to the taking of listed species under the proposed action are considered in the HCP. Under the No-Action alternative, the proposed expansion would not occur and the HCP would not be implemented. This would avoid effects of habitat removal due to the proposed development on the Smith's blue butterfly. However, this alternative would not meet the needs of the applicant. Also, the proposed deed restricted area would not be managed in perpetuity.

Under the Redesigned Project alternative, the development footprint for the project would be relocated to another portion of the site, thus reducing or altering the area of impacted habitat for the Smith's blue butterfly. Alternate locations for new construction are limited within the Parcel due to the presence of steep slopes. An alternate construction site within the Parcel, adjacent to and uphill of the proposed site, was considered, but as this site was also occupied by seacliff buckwheat and Smith's blue butterflies, relocation of the project was not expected to substantially benefit the Smith's blue butterfly.

The Service has made a preliminary determination that the HCP qualifies as a “low-effect” plan as defined by our Habitat Conservation Planning Handbook (November 1996). Our determination that a habitat conservation plan qualifies as a low-effect plan is based on the following three criteria: (1) Implementation of the plan would result in minor or negligible effects on federally listed, proposed, and candidate species and their habitats; (2) implementation of the plan would result in minor or negligible effects on other environmental values or resources; and (3) impacts of the plan, considered together with the impacts of other past, present and reasonably foreseeable similarly situated projects would not result, over time, in cumulative effects to environmental values or resources which would be considered significant. As more fully explained in our Environmental Action Statement and associated Low Effect Screening Form, the applicant's proposal to develop a single family home within the Parcel qualifies as a “low-effect” plan for the following reasons:

(1) Approval of the HCP would result in minor or negligible effects on the Smith's blue butterfly. The Service does not anticipate significant direct or cumulative effects to the Smith's blue butterfly resulting from the proposed development of the project site.

(2) Approval of the HCP would have minor or negligible effects on unique geographic, historic, or cultural sites, and would not involve unique or unknown environmental risks.

(3) Approval of the HCP would not result in any cumulative or growth-inducing impacts and would not result in significant adverse effects on public health or safety.

(4) The project does not require compliance with Executive Order 11988 (Floodplain Management), Executive Order 11990 (Protection of Wetlands), or the Fish and Wildlife Coordination Act, nor does it threaten to violate a Federal, State, local, or tribal law or requirement imposed for the protection of the environment.

(5) Approval of the HCP would not establish a precedent for future actions or represent a decision in principle about future actions with potentially significant environmental effects.

The Service therefore has made a preliminary determination that approval of the HCP qualifies as a categorical exclusion under the National Environmental Policy Act, as provided by the Department of the Interior Manual (516 DM 2, Appendix 1 and 516 DM 6, Appendix 1). Based upon this preliminary determination, we do not intend to prepare further National Environmental Policy Act documentation. The Service will consider public comments in making its final determination on whether to prepare such additional documentation.

Public Review and Comment

If you wish to comment on the permit application, draft Environmental Action Statement, or the proposed HCP, you may submit your comments to the address listed in the ADDRESSES section of this document. Our practice is to make comments, including names, home addresses, etc., of respondents available for public review. Individual respondents may request that we withhold their names and/or home addresses, etc., but if you wish us to consider withholding this information you must state this prominently at the beginning of your comments. In addition, you must provide a rationale demonstrating and documenting that disclosure would constitute a clearly unwarranted invasion of privacy. In the absence of exceptional, documented circumstances, this information will be released. All submissions from organizations or businesses, and from individuals identifying themselves as representatives or officials of organizations or businesses, are available for public inspection in their entirety.

The Service provides this notice pursuant to section 10(c) of the Endangered Species Act. We will evaluate the permit application, the HCP, and comments submitted thereon to determine whether the application meets the requirements of section 10 (a) of the Act. If the requirements are met, the Service will issue a permit to the applicant. We will make the final permit decision no sooner than 30 days after the date of publication of this notice.

Dated: October 10, 2006.
Diane K. Noda,
Field Supervisor, Ventura Fish and Wildlife Office, Ventura, California.

[FR Doc. E6-17329 Filed 10-17-06; 8:45 am]

BILLING CODE 4310-55-P